DEPARTMENT OF TRANSPORTATION

Federal Aviation Administration

14 CFR Part 39

[Docket No. 2000-NM-42-AD; Amendment 39-11728; AD 2000-10-04]

RIN 2120-AA64

Airworthiness Directives; Israel Aircraft Industries, Ltd., Model 1124 and 1124A Westwind Airplanes

AGENCY: Federal Aviation Administration, DOT.

ACTION: Final rule; request for comments.

SUMMARY: This amendment adopts a new airworthiness directive (AD) that is applicable to certain Israel Aircraft Industries, Ltd., Model 1124 and 1124A Westwind airplanes. This action requires a one-time X-ray inspection to detect missing rivets at the rib-to-spar connection of the aileron ribs, and corrective actions, if necessary. This action is necessary to prevent cracking of the aileron skin due to missing rivets, which could result in reduced structural integrity of the aileron and consequent reduced controllability of the airplane. This action is intended to address the identified unsafe condition.

DATES: Effective June 6, 2000.

The incorporation by reference of certain publications listed in the regulations is approved by the Director of the Federal Register as of June 6, 2000.

Comments for inclusion in the Rules Docket must be received on or before June 21, 2000.

ADDRESSES: Submit comments in triplicate to the Federal Aviation Administration (FAA), Transport Airplane Directorate, ANM-114, Attention: Rules Docket No. 2000-NM-42-AD, 1601 Lind Avenue, SW., Renton, Washington 98055-4056. Comments may be inspected at this location between 9:00 a.m. and 3:00 p.m., Monday through Friday, except Federal holidays. Comments may also be sent via the Internet using the following address: 9-anm-iarcomment@faa.gov. Comments sent via the Internet must contain “Docket No. 2000-NM-42-AD” in the subject line and need not be submitted in triplicate.

The service information referenced in this AD may be obtained from Galaxy Aerospace Corporation, One Galaxy Way, Fort Worth Alliance Airport, Fort Worth, Texas 76177. This information may be examined at the FAA, Transport Airplane Directorate, 1601 Lind Avenue, SW., Renton, Washington; or at the Office of the Federal Register, 800 North Capitol Street, NW., suite 700, Washington, DC.

FOR FURTHER INFORMATION CONTACT: Norman B. Martenson, Manager, International Branch, ANM-116, Transport Airplane Directorate, 1601 Lind Avenue, SW., Renton, Washington 98055-4056; telephone (425) 227-2110; fax (425) 227-1149.

SUPPLEMENTARY INFORMATION: The Civil Aviation Administration of Israel (CAAI), notified the FAA that an unsafe condition may exist on certain Israel Aircraft Industries, Ltd., Model 1124 and 1124A Westwind airplanes. The CAAI advises that rivets in the aileron structure have been reported missing. On one airplane, 5 of the 13 aileron ribs were missing rivets. Investigation revealed certain rivets may not have been installed during production. This condition, if not corrected, could result in reduced structural integrity of the aileron and consequent reduced controllability of the airplane.

Explanation of Relevant Service Information

The manufacturer has issued Israel Aircraft Industries 1124 Westwind Alert Service Bulletin No. 1124-27A-145, dated March 24, 2000, which describes procedures for a one-time X-ray inspection to detect missing rivets at the rib to spar connection of the aileron ribs, left and right sides, at work stations (WS) 158.00 through WS 246.00. The CAAI classified this alert service bulletin as mandatory and previously issued Israeli airworthiness directive 57-00-02-06, dated February 24, 2000, in order to assure the continued airworthiness of these airplanes in Israel.

FAA's Conclusions

These airplane models are manufactured in Israel and are type certificated for operation in the United States under the provisions of section 21.29 of the Federal Aviation Regulations (14 CFR 21.29) and the applicable bilateral airworthiness agreement. Pursuant to this bilateral airworthiness agreement, the CAAI has kept the FAA informed of the situation described above. The FAA has examined the findings of the CAAI, reviewed all available information, and determined that AD action is necessary for products of this type design that are certificated for operation in the United States.

Explanation of Requirements of Rule

Since an unsafe condition has been identified that is likely to exist or develop on other airplanes of the same type design registered in the United States, this AD is being issued to prevent cracking of the aileron skin due to missing rivets, which could result in reduced structural integrity of the aileron and consequent reduced controllability of the airplane. This AD requires a one-time X-ray inspection to detect missing rivets at the rib to spar connection of the aileron ribs, and corrective actions, if necessary. The actions are required to be accomplished in accordance with the alert service bulletin described previously, except as discussed below.

Differences Between AD and Alert Service Bulletin

Operators should note that, although the alert service bulletin specifies that the Customer Support Group at Galaxy Aerospace Company may be contacted for disposition of certain conditions, this amendment would require the repair of those conditions to be accomplished in accordance with a method approved by either the FAA or the CAAI (or its delegated agent). In light of the type of repair that would be required to address the identified unsafe condition, and in consonance with existing bilateral airworthiness agreements, the FAA has determined that, for this AD, a repair approved by either the FAA or the CAAI would be acceptable for compliance with this AD.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2000-NM-42-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-10-04 Israel Aircraft Industries, Ltd.: Amendment 39-11728. Docket 2000-NM-42-AD.

Applicability: Model 1124 and 1124A Westwind airplanes having serial numbers (S/N) 297, 304, and 400 through 410 inclusive; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To prevent cracking of the aileron skin due to missing rivets, which could result in reduced structural integrity of the aileron and consequent reduced controllability of the airplane, accomplish the following:

X-Ray Inspection

(a) Within 200 flight hours after the effective date of this AD, perform a one-time X-ray inspection to detect missing rivets at the rib-to-spar connection of the aileron ribs, left and right sides, at work stations (WS) 158.00 to WS 246.00, in accordance with Israel 1124 Westwind Alert Service Bulletin No. 1124-27A-145, dated March 24, 2000.

(1) If all rivets are installed, no further action is required by this AD.

(2) If any rivet is missing, prior to further flight, replace the aileron with a new or serviceable aileron, in accordance with Israel Aircraft Industries 1124/1124A Westwind Maintenance Manual, or repair the aileron in accordance with a method approved by either the Manager, International Branch, ANM-116, FAA, Transport Airplane Directorate; or the Civil Aviation Administration of Israel (CAAI) (or its delegated agent). For a repair method to be approved by the Manager, International Branch, ANM-116, as required by this paragraph, the Manager's approval letter must specifically reference this AD.

Alternative Methods of Compliance

(b) An alternative method of compliance or adjustment of the compliance time that provides an acceptable level of safety may be used if approved by the Manager, International Branch, ANM-116. Operators shall submit their requests through an appropriate FAA Principal Maintenance Inspector, who may add comments and then send it to the Manager, International Branch, ANM-116.

Note 2: Information concerning the existence of approved alternative methods of compliance with this AD, if any, may be obtained from the International Branch, ANM-116.

Special Flight Permits

(c) Special flight permits may be issued in accordance with sections 21.197 and 21.199 of the Federal Aviation Regulations (14 CFR 21.197 and 21.199) to operate the airplane to a location where the requirements of this AD can be accomplished.

Incorporation by Reference

(d) The inspection shall be done in accordance with 1124 Westwind (Israel Aircraft Industries) Alert Service Bulletin No. 1124-27A-145, dated March 24, 2000. This incorporation by reference was approved by the Director of the Federal Register in accordance with 5 U.S.C. 552(a) and 1 CFR part 51. Copies may be obtained from Galaxy Aerospace Corporation, One Galaxy Way, Fort Worth Alliance Airport, Fort Worth, Texas 76177. Copies may be inspected at the FAA, Transport Airplane Directorate, 1601 Lind Avenue, SW., Renton, Washington; or at the Office of the Federal Register, 800 North Capitol Street, NW., suite 700, Washington, DC.

Note 3: The subject of this AD is addressed in Israeli airworthiness directive 57-00-02-06, dated February 24, 2000.

(e) This amendment becomes effective on June 6, 2000.

Issued in Renton, Washington, on May 8, 2000.
Vi L. Lipski,
Acting Manager, Transport Airplane Directorate, Aircraft Certification Service.

[FR Doc. 00-11951 Filed 5-19-00; 8:45 am]

BILLING CODE 4910-13-P